DEPARTMENT OF STATE

[Public Notice: 9150]

Culturally Significant Object Imported for Exhibition Determinations: “Pleasure and Piety: The Art of Joachim Wtewael” Exhibition

ACTION: Notice; correction.

SUMMARY: On March 27, 2015, notice was published on pages 16492 and 16493 of the Federal Register (volume 80, number 59) of determinations made by the Department of State pertaining to the exhibition “Pleasure and Piety: The Art of Joachim Wtewael.” The referenced notice is corrected here to include an additional object as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional object to be included in the exhibition “Pleasure and Piety: The Art of Joachim Wtewael,” imported from abroad for temporary exhibition within the United States, is of cultural significance. The additional object is imported pursuant to a loan agreement with the foreign owner or custodian. I also determine that the exhibition or display of the additional object at the National Gallery of Art, Washington, DC, from on or about June 28, 2015, until on or about October 4, 2015, at the Museum of Fine Arts, Houston, Houston, Texas, from on or about November 1, 2015, until on or about January 31, 2016, and at possible additional exhibitions or venues yet to be determined, is in the national interest. I have ordered that Public Notice of these Determinations be published in the Federal Register.

FOR FURTHER INFORMATION CONTACT: For further information, including a description of the additional exhibit object, contact the Office of Public Diplomacy and Public Affairs in the Office of the Legal Adviser, U.S. Department of State (telephone: 202-632-6471; email: section2459@state.gov). The mailing address is U.S. Department of State, L/PD, SA-5, Suite 5H03, Washington, DC 20522-0505.

Dated: May 19, 2015.
Kelly Keiderling,
Principal Deputy Assistant Secretary, Bureau of Educational and Cultural Affairs, Department of State.

[FR Doc. 2015-12909 Filed 5-27-15; 8:45 am]

BILLING CODE 4710-05-P